DEPARTMENT OF ENERGY

Federal Energy Regulatory Commission

[Docket No. EC04-63-000, et al.]

Crescent Ridge LLC, et al.; Electric Rate and Corporate Filings

February 9, 2004.

The following filings have been made with the Commission. The filings are listed in ascending order within each docket classification.

1. Crescent Ridge LLC and Eurus Combine Hills I LLC

[Docket No. EC04-63-000]

Take notice that on February 6, 2004, Crescent Ridge LLC and Eurus Combine Hills I LLC (the Applicants), submitted an application pursuant to section 203 of the Federal Power Act, seeking authorization for a transaction that would result in the transfer of indirect control of Applicants' jurisdictional facilities, including interconnection facilities, rate schedules for sales of power at wholesale and jurisdictional books and records. Applicants request expedited consideration of their Application and certain waivers.

Applicants state that the Transaction will have no effect on competition, rates or regulation and is in the public interest.

Comment Date: February 27, 2004.

2. Rock River, I, LLC

[Docket No. ER01-2742-002]

Take notice that on January 27, 2004, the Rock River, I LLC (Rock River), tendered for filing Three-Year Market Analysis Update.

Comment Date: February 17, 2004.

3. Midwest Independent Transmission System Operator, Inc.

[Docket No. ER04-527-000]

Take notice that on February 4, 2004, the Midwest Independent Transmission System Operator, Inc. (Midwest ISO) tendered for filing pursuant to section 205 of the Federal Power Act and section 35.12 of the Commission's regulations, 18 CFR 35.12 (2002), an Interconnection and Operating Agreement among Roquette America, Midwest ISO and Interstate Power and Light Company, a wholly-owned subsidiary of Alliant Energy Corporation.

Midwest ISO states that a copy of this filing was served on all parties.

Comment Date: February 25, 2004.

4. PacifiCorp

[Docket No. ER04-528-000]

Take notice that on February 4, 2004, PacifiCorp, tendered for filing a Notice of Cancellation of PacifiCorp's Rate Schedule No. 366 with Avista Corporation (formerly known as Washington Water Power Company).

PacifiCorp states that copies of this filing were supplied to Avista Corporation, the Washington Utilities and Transportation Commission and the Public Utility Commission of Oregon.

Comment Date: February 25, 2004.

5. Rolling Hills Landfill Gas, LLC

[Docket No. ER04-529-000]

Take notice that on February 4, 2004, Rolling Hills Landfill Gas, LLC (Rolling Hills) tendered for filing , pursuant to section 205 of the Federal Power Act, and part 35 of the Commission's regulations, an application for authorization to make sales, as power marketers of capacity, energy, and certain Ancillary Services at market-based rates; to reassign transmission capacity; to resell firm transmission rights; to waive certain of the Commission's regulations promulgated under the FPA; and to grant certain blanket approvals under other such regulations.

Comment Date: February 25, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E4-302 Filed 2-13-04; 8:45 am]

BILLING CODE 6717-01-P